DEPARTMENT OF COMMERCE

International Trade Administration

A-570-905

Postponement of Final Determination of Antidumping Duty Investigation: Certain Polyester Staple Fiber from the People's Republic of China

AGENCY: Import Administration, International Trade Administration, Department of Commerce.

EFFECTIVE DATE: February 9, 2007.

FOR FURTHER INFORMATION CONTACT: Michael Holton or Paul Walker, Import Administration, International Trade Administration, U.S. Department of Commerce, 14th Street and Constitution Avenue, NW, Washington, DC 20230; telephone: (202) 482-1324 or (202) 482-0413, respectively.

SUPPLEMENTARY INFORMATION:

Postponement of Final Determination

On July 13, 2006, the Department of Commerce (“Department”) initiated the antidumping duty investigation of certain polyester staple fiber from the People's Republic of China. See Initiation of Antidumping Duty Investigation: Certain Polyester Staple Fiber from the People's Republic of China, 71 FR 41201 (July 20, 2006) (“Initiation Notice”). On December 26, 2006, the Department published the Preliminary Determination in the antidumping duty investigation of certain polyester staple fiber from the People's Republic of China. See Preliminary Determination of Sales at Less Than Fair Value and Partial Affirmative Determination of Critical Circumstances: Certain Polyester Staple Fiber from the People's Republic of China, 71 FR 77373 (December 26, 2006) (“Preliminary Determination”). The Preliminary Determination stated that the Department would make its final determination for this antidumping duty investigation no later than 75 days after the date of publication of the preliminary determination (i.e., March 11, 2007).

Section 735(a)(2) of the Tariff Act of 1930 (“the Act”) provides that a final determination may be postponed until not later than 135 days after the date of the publication of the preliminary determination if, in the event of an affirmative determination, a request for such postponement is made by exporters who account for a significant proportion of exports of the subject merchandise, or in the event of a negative preliminary determination, a request for such postponement is made by petitioner. In addition, the Department's regulations, at 19 CFR 351.210(e)(2), require that requests by respondents for postponement of a final determination be accompanied by a request for extension of provisional measures from a four-month period to not more than six months. See 19 CFR 351.210(e)(2).

On January 10, 2007, several respondents¹ requested a 30-day extension of the final determination and extension of the provisional measures.² Thus, because our preliminary determination is affirmative, and the respondents requesting an extension of the final determination, and an extension of the provisional measures, account for a significant proportion of exports of the subject merchandise, and no compelling reasons for denial exist, we are extending the due date for the final determination by 30 days. For the reasons identified above, we are postponing the final determination until April 10, 2007.

¹ These respondents are: Cixi Jiangnan Chemical Fiber Co., Ltd., Ningbo Dafa Chemical Fiber Co., Ltd., Cixi Sansheng Chemical Fiber Co., Ltd., Cixi Santai Chemical Fiber Co., Ltd., Hangzhou Sanxin Paper Co., Ltd., Suzhou PolyFiber Co., Ltd., Zhaoqing Tifo New Fiber Co., Ltd., Nantong Luolai Chemical Fiber Co. Ltd., Zhejiang Waysun Chemical Fiber Co., Ltd. and Cixi Waysun Chemical Fiber Co., Ltd.

² On January 12, 2007, Far Eastern Industries (Shanghai) Ltd. requested a 30 day extension of the final determination, but did not request an extension of the provisional measures.

This notice is issued and published pursuant to sections 777(i) of the Act and 19 CFR 351.205(f)(1).

Dated: February 1, 2007.
David M. Spooner,
Assistant Secretary for Import Administration.

[FR Doc. E7-2128 Filed 2-8-07; 8:45 am]

BILLING CODE 3510-DS-S